COMMISSION ON CIVIL RIGHTS

Agenda and Notice of Public Meeting of the New Mexico Advisory Committee

Notice is hereby given, pursuant to the provisions of the rules and regulations of the U.S. Commission on Civil Rights (Commission), and the Federal Advisory Committee Act (FACA), that an orientation and planning meeting of the New Mexico Advisory Committee to the Commission will convene at 1:00 p.m. (MDT) on Tuesday, February 10, 2015, in the Wells Fargo Board Room, Albuquerque Hispano Chamber of commerce, 1309 Fourth Street NW., Albuquerque, NM 87102. The purpose of the orientation meeting is to inform the newly appointed Committee members about the rules of operation of federal advisory committees and to select additional officers, as determined by the Committee. The purpose of the planning meeting is to discuss potential topics that the Committee may wish to study.

Persons who desire additional information may contact the Rocky Mountain Regional Office, U.S. Commission on Civil Rights, 1961 Stout Street, Suite 13-201, Denver, CO 80294, phone 303-866-1040 and fax 303-866-1050, or email to Evelyn Bohor at ebohor@usccr.gov.

Persons needing accessibility services should contact the Rocky Mountain Regional Office at least 10 working days before the scheduled date of the meeting.

Records generated from this meeting may be inspected and reproduced at the Rocky Mountain Regional Office, as they become available, both before and after the meeting. Persons interested in the word of this advisory committee are advised to go to the Commission's Web site, www.usccr.gov, or to contact the Rocky Mountain Regional Office at the above phone number, email or street address.

The meeting will be conducted pursuant to the provision of the rules and regulations of the Commission and FACA.

Dated January 12, 2015.
David Mussatt,
Chief, Regional Programs Coordination Unit.

[FR Doc. 2015-00581 Filed 1-15-15; 8:45 am]

BILLING CODE 6335-01-P